DEPARTMENT OF AGRICULTURE

Animal and Plant Health Inspection Service

7 CFR Part 319

[Docket No. 00-119-2]

Importation of Nursery Stock, Plants, Roots, Bulbs, Seeds, and Other Plant Products; Phytosanitary Certificates: Delay of Effective Date

AGENCY: Animal and Plant Health Inspection Service, USDA.

ACTION: Policy statement; delay of effective date.

SUMMARY: We are delaying by 120 days the planned effective date for a policy to enforce an existing requirement that a phytosanitary certificate of inspection accompany restricted articles, other than certain greenhouse-grown plants from Canada, that are offered for importation into the United States under our foreign quarantine regulations for nursery stock, plants, roots, bulbs, seeds, and other plant products. This action will allow affected parties additional time in making necessary preparations to comply with this requirement.

DATES: The effective date of the Importation of Nursery Stock, Plants, Roots, Bulbs, Seeds, and Other Plant Products; Phytosanitary Certificates policy statement, published in the Federal Register on July 23, 2001 (66 FR 38137-38139, Docket No. 00-119-1) is delayed for 120 days, from September 21, 2001, to a new effective date of January 22, 2002.

FOR FURTHER INFORMATION CONTACT: Mr. James Petit de Mange, CITES and Plant Inspection Station Coordinator, Port Operations, PPQ, APHIS, 4700 River Road Unit 60, Riverdale, MD 20737-1236; (301) 734-8295.

SUPPLEMENTARY INFORMATION:

Background

The regulations in 7 CFR part 319 prohibit or restrict the importation into the United States of certain plants and plant products to prevent the introduction of plant pests into the United States. The regulations contained in “Subpart Nursery Stock, Plants, Roots, Bulbs, Seeds, and Other Plant Products,” §§ 319.37 through 319.37-14 (referred to below as the regulations), prohibit or restrict, among other things, the importation of living plants, plant parts, and seeds for propagation. Paragraph (a) of § 319.37-4 of the regulations requires that any restricted article offered for importation into the United States, other than certain greenhouse-grown plants from Canada, be accompanied by a phytosanitary certificate of inspection (phytosanitary certificate).

On July 23, 2001, we published in the Federal Register (66 FR 38137-38139, Docket No. 00-119-1) a policy statement advising the public of our decision to begin enforcing on a consistent basis an existing requirement in § 319.37-4(a) of the regulations that a phytosanitary certificate of inspection accompany restricted articles, other than certain greenhouse-grown plants from Canada, that are offered for importation into the United States under our foreign quarantine regulations for nursery stock, plants, roots, bulbs, seeds, and other plant products. We notified the public that we intended to begin routinely enforcing this requirement effective September 21, 2001.

Several parties, including one official national plant protection organization, have requested that we delay the effective date to allow them and other parties affected by this change in policy additional time in making preparations to comply with this requirement. In response to these requests, we are delaying the effective date for an additional 120 days beyond the previously announced date of September 21, 2001.

Authority: 7 U.S.C. 166, 450, 7711-7714, 7718, 7731, 7732, and 7751-7754; 21 U.S.C. 136 and 136a; 7 CFR 2.22, 2.80, and 371.3.

Done in Washington, DC, this 27th day of August 2001.
Craig A. Reed,
Administrator, Animal and Plant Health Inspection Service.

[FR Doc. 01-22032 Filed 8-30-01; 8:45 am]

BILLING CODE 3410-34-P